DEPARTMENT OF LABOR

Employment and Training Administration

[NAFTA-03838 and NAFTA-03838A]

Rugged Sportswear, Siler City, NC, Rugged Sportswear Walstonburg, NC; Amended Certification Regarding Eligibility to Apply for NAFTA Transitional Adjustment Assistance

In accordance with section 250(a), Subchapter 2, Title II, of the Trade Act of 1974, as amended (19 U.S.C. 2273), the Department of Labor issued a Certification of Eligibility to Apply for NAFTA Adjustment Assistance on May 30, 2000, applicable to workers of Rugged Sportswear, Siler City, North Carolina. The notice was published in the Federal Register on June 8, 2000 (65 FR 36470).

At the request of the company, the Department reviewed the certification for workers of the subject firm. New information shows that worker separations occurred at the subject firms' Walstonburg, North Carolina facility when it closed in October, 2000. The workers were engaged in the production of sweat shirts, sweat pants and sweat shorts.

Accordingly, the Department is amending the certification to include the workers at the Walstonburg, North Carolina location of Rugged Sportswear.

The intent of the Department's certification is to include all workers of Rugged Sportswear who were adversely affected by a shift of production to Mexico.

The amended notice applicable to NAFTA-03838 is hereby issued as follows:

All workers of Rugged Sportswear, Siler City, North Carolina (NAFTA-03838) and Walstonburg, North Carolina (NAFTA-03838A) who becomes totally or partially separated from employment on or after March 31, 1999 through May 30, 2002 are eligible to apply for NAFTA-TAA under Section 250 of the Trade Act of 1974.

Signed at Washington, DC this 15th day of December, 2000.
Linda G. Poole,
Certifying Officer, Division of Trade Adjustment Assistance.

[FR Doc. 00-33065 Filed 12-27-00; 8:45 am]

BILLING CODE 4510-30-M